DEPARTMENT OF EDUCATION

[CFDA Nos. 84.007, 84.032, 84.033, 84.038, 84.063, 84.069, 84.268, 84.375, 84.376, and 84.37]

Student Assistance General Provisions, Federal Supplemental Educational Opportunity Grant, Federal Family Education Loan, Federal Work-Study, Federal Perkins Loan, Federal Pell Grant, Leveraging Educational Assistance Partnership, William D. Ford Federal Direct Loan, Academic Competitiveness Grant, National Science and Mathematics Access To Retain Talent Grant, and Teacher Education Assistance for College and Higher Education Programs

ACTION: Notice of deadline dates for receipt of applications, reports, and other records for the 2009-2010 award year.

SUMMARY: The Secretary announces deadline dates for the receipt of documents and other information from institutions and applicants for the Federal student aid programs authorized under Title IV of the Higher Education Act of 1965, as amended, for the 2009-2010 award year. The Federal student aid programs include the Federal Supplemental Educational Opportunity Grant, Federal Family Education Loan, Federal Work-Study, Federal Perkins Loan, Federal Pell Grant, Leveraging Educational Assistance Partnership, William D. Ford Federal Direct Loan, Academic Competitiveness Grant (ACG), National Science and Mathematics Access to Retain Talent Grant (National SMART Grant), and Teacher Education Assistance for College and Higher Education (TEACH) programs.

These programs, administered by the U.S. Department of Education (Department), provide financial assistance to students attending eligible postsecondary educational institutions to help them pay their educational costs.

Deadline and Submission Dates: See Tables A, B, and C at the end of this notice.

Table A—Deadline Dates for Application Processing and Receipt of Student Aid Reports (SARs) or Institutional Student Information Records (ISIRs) by Institutions

Table A provides information and deadline dates for application processing, including receipt of the Free Application for Federal Student Aid (FAFSA) and corrections to and signatures for the FAFSA, receipt of SARs and ISIRs, and receipt of verification documents.

The deadline date for the receipt of a FAFSA by the Department's Central Processing System is June 30, 2010, regardless of the method that the applicant uses to submit the FAFSA. The deadline date for the receipt of a signature page for the FAFSA (if required), corrections, changes of addresses or schools, or requests for a duplicate SAR is September 21, 2010. Verification documents must be received by the institution no later than the earlier of 120 days after the student's last date of enrollment or September 28, 2010.

For all Federal student aid programs except Parent PLUS, a SAR or ISIR with an official expected family contribution must be received by the institution no later than the earlier of the student's last date of enrollment or September 28, 2010. For purposes of only the Federal Pell Grant, ACG, or National SMART Grant programs, a valid SAR or valid ISIR for a student not meeting the conditions for a late disbursement must be received no later than the earlier of the student's last date of enrollment or September 28, 2010. A valid SAR or valid ISIR for a student meeting the conditions for a late disbursement under the Federal Pell Grant, ACG, or National SMART Grant programs must be received according to the deadline dates provided in Table A.

In accordance with the regulations in 34 CFR 668.164(g)(4)(i), an institution may not make a late disbursement later than 180 days after the date of the institution's determination that the student withdrew or, for a student who did not withdraw, as provided in 34 CFR 668.22, 180 days after the date the student otherwise became ineligible. Table A provides that an institution must receive a valid SAR or valid ISIR no later than 180 days after its determination of a student's withdrawal or, for a student who did not withdraw, 180 days after the date the student otherwise became ineligible, but not later than September 28, 2010.

Table B—Federal Pell Grant, ACG, and National SMART Grant Programs Submission Dates for Disbursement Information by Institutions

Table B provides the earliest submission and deadline dates for institutions to submit Federal Pell Grant, ACG, and National SMART Grant disbursement records to the Department's Common Origination and Disbursement (COD) System and deadline dates for requests for administrative relief if the institution cannot meet the established deadline for specified reasons.

In general, an institution must submit Federal Pell Grant, ACG, or National SMART Grant disbursement records no later than 30 days after making a Federal Pell Grant, ACG, or National SMART Grant disbursement or becoming aware of the need to adjust a student's previously reported Federal Pell Grant, ACG, or National SMART Grant disbursement. In accordance with the regulations in 34 CFR 668.164, we consider that Federal Pell Grant, ACG, and National SMART Grant funds are disbursed on the date that the institution: (a) Credits those funds to a student's account in the institution's general ledger or any subledger of the general ledger, or (b) pays those funds to a student directly. We consider that Federal Pell Grant, ACG, and National SMART Grant funds are disbursed even if an institution uses its own funds in advance of receiving program funds from the Department. An institution's failure to submit disbursement records within the required 30-day timeframe may result in an audit or program review finding. In addition, the Secretary may initiate an a dverse action, such as a fine or other penalty for such failure.

Table C—Federal Pell Grant Disbursement Information for a Payment Period That Occurs in Two Award Years (Crossover Payment Period)

Table C provides the deadline dates regarding when the receipt of information requires the institution to assign a student's 2010 crossover payment period that occurs in the 2009-2010 and 2010-2011 award years to the award year in which the student would receive a greater Federal Pell Grant payment for the payment period.

In accordance with 34 CFR 690.64, as amended by the final regulations published on October 29, 2009, and effective on July 1, 2010 (74 FR 55902, 55951), an institution must, regardless of a student's enrollment status, assign a crossover payment period (a payment period that includes both June 30 and July 1) to the award year in which the student would receive the greater payment for the crossover payment period based on the information available at the time the student's Federal Pell Grant is initially calculated. Table C sets a September 10, 2010 deadline for the receipt of any information that would require an institution to reassign the 2010 crossover payment period to the award year providing the greater payment. During the subsequent period of time but not later than February 1, 2011, an institution may establish a policy concerning reassignment of the 2010 crossover payment period (74 FR 55922).

It is important to note that for the 2010 transition crossover payment period only, an institution is not required to award a Federal Pell Grant to a student from the award year that will provide the greater payment if the institution established a written crossover payment period policy prior to July 1, 2010 and under that policy a student would be awarded a Federal Pell Grant from the 2009-2010 award year without applying the regulations as amended on October 29, 2009 (74 FR 55904).

Other Sources for Detailed Information

We publish a detailed discussion of the Federal student aid application process in the following publications:

• 2009-2010 Funding Education Beyond High School.

• 2009-2010 Counselors and Mentors Handbook.

• 2009-2010 ISIR Guide.

• 2009-2010 Federal Student Aid Handbook.

Additional information on the institutional reporting requirements for the Federal Pell Grant, ACG, and National SMART Grant programs is contained in the 2009-2010 COD Technical Reference. You may access this reference by selecting the “Publications” link at the Information for Financial Aid Professionals Web site at: http://www.ifap.ed.gov.

Applicable Regulations: The following regulations apply: (1) Student Assistance General Provisions, 34 CFR part 668, (2) Federal Pell Grant Program, 34 CFR part 690, and (3) Academic Competitiveness Grant and National Science and Mathematics Access to Retain Talent Grant Programs, 34 CFR part 691.

FOR FURTHER INFORMATION CONTACT: Harold McCullough, U.S. Department of Education, Federal Student Aid, 830 First Street, NE., Union Center Plaza, Room 113E1, Washington, DC 20202-5345. Telephone: (202) 377-4030.

If you use a telecommunications device for the deaf (TDD), call the Federal Relay Service (FRS), toll free, at 1-800-877-8339.

Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Program Authority: 20 U.S.C. 1070a, 1070a-1, 1070b-1070b-4, 1070c-1070c-4, 1070g, 1071-1087-2, 1087a-1087j, and 1087aa-1087ii; 42 U.S.C. 2751-2756b.

Dated: May 20, 2010.
William J. Taggart,
Chief Operating Officer, Federal Student Aid.

[FR Doc. 2010-12558 Filed 5-25-10; 8:45 am]

BILLING CODE 4000-01-P